DEPARTMENT OF COMMERCE

National Oceanic and Atmospheric Administration

[I.D. 103000E]

New England Fishery Management Council; Public Meetings

AGENCY: National Marine Fisheries Service (NMFS), National Oceanic and Atmospheric Administration (NOAA), Commerce.

ACTION: Notice of public meeting.

SUMMARY: The New England Fishery Management Council (Council) is scheduling a joint public meeting of its Skate Oversight Committee and Skate Advisory Panel in November, 2000. Recommendations from these committees will be brought to the full Council for formal consideration and action, if appropriate.

DATES: The Skate Advisory Panel meeting will held on Thursday, November 30, 2000, at 8:30 a.m. and the Skate Oversight Committee will join them at 9:30 a.m.

ADDRESSES: The meeting will be held at the Ramada Inn, 936 West Main Road, Middletown, RI 02842; telephone: (401) 846-7600

FOR FURTHER INFORMATION CONTACT: Paul J. Howard, Executive Director, New England Fishery Management Council; (978) 465-0492.

SUPPLEMENTARY INFORMATION: This is the first meeting for the newly-established Skate Advisory Panel. Advisors will meet to review advisory panel policies and elect a chairman. The Skate Committee will join them for a workshop on skate species identification. There will be a presentation of the final Skate Stock Assessment and Fishery Evaluation (SAFE) Report and development and approval of a scoping document for Skate Fishery Management Plan. The committee will review a timeline for scoping.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: November 2, 2000.
Richard W. Surdi,
Acting Director, Office of Sustainable Fisheries, National Marine Fisheries Service.

[FR Doc. 00-28678 Filed 11-7-00; 8:45 am]

BILLING CODE 3510-22-S